DEPARTMENT OF THE INTERIOR

National Park Service

[NPS-WASO-NAGPRA-19811; PPWOCRADN0-PCU00RP14.R50000]

Notice of Inventory Completion: Field Museum of Natural History, Chicago, IL

AGENCY: National Park Service, Interior.

ACTION: Notice.

SUMMARY: The Field Museum of Natural History has completed an inventory of human remains and associated funerary objects, in consultation with the appropriate Indian tribes or Native Hawaiian organizations, and has determined that there is no cultural affiliation between the human remains and associated funerary objects and any present-day Indian tribes or Native Hawaiian organizations. Representatives of any Indian tribe or Native Hawaiian organization not identified in this notice that wish to request transfer of control of these human remains and associated funerary objects should submit a written request to the Field Museum of Natural History. If no additional requestors come forward, transfer of control of the human remains and associated funerary objects to the Indian tribe or Native Hawaiian organization stated in this notice may proceed.

DATES: Representatives of any Indian tribe or Native Hawaiian organization not identified in this notice that wish to request transfer of control of these human remains and associated funerary objects should submit a written request with information in support of the request to the Field Museum of Natural History at the address in this notice by January 11, 2016.

ADDRESSES: Helen Robbins, Repatriation Director, Field Museum of Natural History, 1400 S. Lake Shore Drive, Chicago, IL 60605, telephone (312) 665-7317, email hrobbins@fieldmuseum.org.

SUPPLEMENTARY INFORMATION: Notice is here given in accordance with the Native American Graves Protection and Repatriation Act (NAGPRA), 25 U.S.C. 3003, of the completion of an inventory of human remains and associated funerary objects under the control of the Field Museum of Natural History, Chicago, IL. The human remains and associated funerary objects were removed from a location on Bonito Creek and a cave on the East Fork of the White River (8 miles above Fort Apache) on the Fort Apache Reservation, AZ.

This notice is published as part of the National Park Service's administrative responsibilities under NAGPRA, 25 U.S.C. 3003(d)(3) and 43 CFR 10.11(d). The determinations in this notice are the sole responsibility of the museum, institution, or Federal agency that has control of the Native American human remains and associated funerary objects. The National Park Service is not responsible for the determinations in this notice.

Consultation

A detailed assessment of the human remains was made by the Field Museum of Natural History professional staff in consultation with representatives of Ak Chin Indian Community of the Maricopa (Ak Chin) Indian Reservation, Arizona; Cocopah Tribe of Arizona; Confederated Tribes of the Goshute Reservation, Nevada and Utah; Fort McDowell Yavapai Nation, Arizona; Fort Mojave Indian Tribe of Arizona, California & Nevada; Fort Sill Apache Tribe of Oklahoma; Gila River Indian Community of the Gila River Indian Reservation, Arizona; Havasupai Tribe of the Havasupai Reservation, Arizona; Hopi Tribe of Arizona; Hualapai Indian Tribe of the Hualapai Indian Reservation, Arizona; Jicarilla Apache Nation, New Mexico; Kaibab Band of Paiute Indians of the Kaibab Indian Reservation, Arizona; Kewa Pueblo (formerly Pueblo of Santo Domingo, New Mexico); Las Vegas Tribe of Paiute Indians of the Las Vegas Indian Colony, Nevada; Mescalero Apache Tribe of the Mescalero Reservation, New Mexico Moapa Band of Paiute Indians of the Moapa River Indian Reservation, Nevada; Navajo Nation, Arizona, New Mexico & Utah; Northwestern Band of Shoshoni Nation of Utah (Washakie); Ohkay Owingeh (formerly Pueblo of San Juan, New Mexico); Paiute Indian Tribe of Utah; Pascua Yaqui Tribe of Arizona; Pueblo of Acoma, New Mexico; Pueblo of Isleta, New Mexico; Pueblo of Jemez, New Mexico; Pueblo of Laguna, New Mexico; Pueblo of Nambe, New Mexico; Pueblo of Picuris, New Mexico; Pueblo of Pojoaque, New Mexico; Pueblo of San Felipe, New Mexico; Pueblo of San Ildefonso, New Mexico; Pueblo of Sandia, New Mexico; Pueblo of Santa Ana, New Mexico; Pueblo of Santa Clara, New Mexico; Pueblo of Taos, New Mexico; Pueblo of Tesuque, New Mexico; Pueblo of Zia, New Mexico; Ramah Navajo Chapter; Salt River Pima-Maricopa Indian Community of the Salt River Reservation, Arizona; San Carlos Apache Tribe of the San Carlos Reservation, Arizona; San Juan Southern Paiute Tribe of Arizona; Southern Ute Indian Tribe of the Southern Ute Reservation, Colorado; Tohono O'odham Nation of Arizona; Tonto Apache Tribe of Arizona; Ute Indian Tribe of the Uintah & Ouray Reservation, Utah; White Mountain Apache Tribe of the Fort Apache Reservation, Arizona; Yavapai-Apache Nation of the Camp Verde Indian Reservation, Arizona; Yavapai-Prescott Tribe of the Yavapai Reservation, Arizona; Ysleta del Sur Pueblo of Texas; and the Zuni Tribe of the Zuni Reservation, New Mexico. Key consultation with the tribes listed took place between January and July of 2015. This consultation included sending a letter inviting THPOs, NAGPRA Representatives and other appropriate tribal representatives to consult as well follow-up telephone conversations.

History and Description of the Remains

In October 1903, human remains representing, at minimum, one individual were removed from the area along Bonito Creek on the Fort Apache Reservation in Arizona, and were accessioned by The Field Museum. These human remains were removed by Charles Owen, Assistant Curator of Archaeology at The Field Museum, at some point during his two collecting trips to the reservation in 1901 and 1903. No further provenience or dating information is available. The human remains belong to a child of indeterminate sex between the ages of six and ten. No known individuals were identified. No associated funerary objects are present.

In October 1903, human remains representing at minimum eight individuals were removed from a cave site on the East Fork of the White River, 8 miles north of Fort Apache on the Fort Apache Reservation in Arizona, and were accessioned by The Field Museum. These human remains were removed by Charles Owen, Assistant Curator of Archaeology at The Field Museum, at some point during his two collecting trips to the reservation in 1901 and 1903. While there is historical information about known cave systems and archaeological work undertaken on the White River, including Owen's for The Field Museum, it is not possible to ascertain from which cave in particular the human remains and associated funerary objects were removed. The cranial human remains present (which have been used to determine the number of individuals) belong to two individuals over the age of 50, one male and one indeterminable, two possible females aged 35 or older, a possible female between the ages of 20 and 40, and three children between the age of four and six, eight and ten, and eight and twelve, respectively. The post-cranial human remains present are commingled and do not necessarily represent additional individuals. The human remains represent both juvenile/young adult and adult persons. No known individuals were identified. The four associated funerary items are one piece of unidentified tubular organic material, one piece of twisted fibers, one piece of plant fiber wrapped with bird feather stem, and circular shell or stone beads on twine.

Determinations Made by The Field Museum of Natural History

Officials of The Field Museum have determined that:

• Pursuant to 25 U.S.C. 3001(9), the human remains described in this notice are Native American based on Field Museum records and a physical inventory of the collection.

• Pursuant to 25 U.S.C. 3001(9), the human remains described in this notice represent the physical remains of a minimum of nine individuals of Native American ancestry.

• Pursuant to 25 U.S.C. 3001(3)(A), the four objects described in this notice are reasonably believed to have been placed with or near individual human remains at the time of death or later as part of the death rite or ceremony.

• Pursuant to 25 U.S.C. 3001(2), a relationship of shared group identity cannot be reasonably traced between the Native American human remains and associated funerary objects and any present-day Indian tribe.

• Pursuant to 25 U.S.C. 3001 (15), the land from which the Native American human remains and associated funerary objects were removed is the tribal land of the White Mountain Apache Tribe of the Fort Apache Reservation, Arizona.

• Pursuant to 43 CFR 10.11(c)(1), the disposition of the human remains and associated funerary objects may be to the White Mountain Apache Tribe of the Fort Apache Reservation, Arizona.

Additional Requestors and Disposition

Representatives of any Indian tribe or Native Hawaiian organization not identified in this notice that wish to request transfer of control of these human remains and associated funerary objects should submit a written request with information in support of the request to Helen Robbins, Repatriation Director, Field Museum of Natural History, 1400 S. Lake Shore Drive, Chicago, IL 60605, telephone (312) 665-7317, email hrobbins@fieldmuseum.org, by January 11, 2016. After that date, if no additional requestors have come forward, transfer of control of the human remains and associated funerary objects to the White Mountain Apache Tribe of the Fort Apache Reservation, Arizona may proceed.

The Field Museum is responsible for notifying the Ak Chin Indian Community of the Maricopa (Ak Chin) Indian Reservation, Arizona; Cocopah Tribe of Arizona; Cocopah Tribe of Arizona; Confederated Tribes of the Goshute Reservation, Nevada and Utah; Fort McDowell Yavapai Nation, Arizona; Fort Mojave Indian Tribe of Arizona, California & Nevada; Fort Sill Apache Tribe of Oklahoma; Gila River Indian Community of the Gila River Indian Reservation, Arizona; Havasupai Tribe of the Havasupai Reservation, Arizona; Hopi Tribe of Arizona; Hualapai Indian Tribe of the Hualapai Indian Reservation, Arizona; Isleta del Sur Pueblo of Texas; Jicarilla Apache Nation, New Mexico; Kaibab Band of Paiute Indians of the Kaibab Indian Reservation, Arizona; Kewa Pueblo (formerly Pueblo of Santo Domingo, New Mexico); Las Vegas Tribe of Paiute Indians of the Las Vegas Indian Colony, Nevada; Mescalero Apache Tribe of the Mescalero Reservation, New Mexico; Moapa Band of Paiute Indians of the Moapa River Indian Reservation, Nevada; Navajo Nation, Arizona, New Mexico & Utah; Northwestern Band of Shoshoni Nation of Utah (Washakie); Ohkay Owingeh (formerly Pueblo of San Juan, New Mexico); Paiute Indian Tribe of Utah; Pascua Yaqui Tribe of Arizona; Pueblo of Acoma, New Mexico; Pueblo of Isleta, New Mexico; Pueblo of Jemez, New Mexico; Pueblo of Laguna, New Mexico; Pueblo of Nambe, New Mexico; Pueblo of Picuris, New Mexico; Pueblo of Pojoaque, New Mexico; Pueblo of San Felipe, New Mexico; Pueblo of San Ildefonso, New Mexico; Pueblo of Sandia, New Mexico; Pueblo of Santa Ana, New Mexico; Pueblo of Santa Clara, New Mexico; Pueblo of Taos, New Mexico; Pueblo of Tesuque, New Mexico; Pueblo of Zia, New Mexico; Ramah Navajo Chapter; Salt River Pima-Maricopa Indian Community of the Salt River Reservation, Arizona; San Carlos Apache Tribe of the San Carlos Reservation, Arizona; San Juan Southern Paiute Tribe of Arizona; Southern Ute Indian Tribe of the Southern Ute Reservation, Colorado; Tohono O'odham Nation of Arizona; Tonto Apache Tribe of Arizona; Ute Indian Tribe of the Uintah & Ouray Reservation, Utah; White Mountain Apache Tribe of the Fort Apache Reservation, Arizona; Yavapai-Apache Nation of the Camp Verde Indian Reservation, Arizona; Yavapai-Prescott Tribe of the Yavapai Reservation, Arizona; and the Zuni Tribe of the Zuni Reservation, New Mexico that this notice has been published.

Dated: November 17, 2015.
Melanie O'Brien,
Manager, National NAGPRA Program.

[FR Doc. 2015-31303 Filed 12-10-15; 8:45 am]

BILLING CODE 4312-50-P